DEPARTMENT OF LABOR

Employment and Training Administration

[TA-W-62,893]

Sylmark, Inc., Los Angeles, CA; Notice of Termination of Investigation

In accordance with section 221 of the Trade Act of 1974, as amended, an investigation was initiated on February 25, 2008 in response to a petition filed by a California State Workforce Office on behalf of workers of Sylmark, Inc., Los Angeles, California.

The petitioner has requested that the petition be withdrawn. Consequently, the investigation has been terminated.

Signed in Washington, DC, this 6th day of March, 2008.
Richard Church,
Certifying Officer, Division of Trade Adjustment Assistance.

[FR Doc. E8-5224 Filed 3-14-08; 8:45 am]

BILLING CODE 4510-FN-P